DEPARTMENT OF EDUCATION

34 CFR Chapter II

[Docket ID ED-2018-OESE-0069: CFDA Number: 84.283B]

Final Priorities, Requirements, Definitions, and Performance Measures—Comprehensive Centers Program

AGENCY: Office of Elementary and Secondary Education, Department of Education.

ACTION: Final priorities, requirements, definitions, and performance measures.

SUMMARY: The Assistant Secretary for Elementary and Secondary Education (Assistant Secretary) announces priorities, requirements, definitions, and performance measures under the Comprehensive Centers (CC) program. The Assistant Secretary may use these priorities, requirements, definitions, and performance measures for competitions in FY 2019 and subsequent years. We take this action to focus Federal technical assistance to address State-defined needs. We intend these priorities, requirements, definitions, and performance measures to increase the effectivess and efficiency of service delivery to all States.

DATES: These priorities, requirements, definitions, and performance measures are effective May 6, 2019.

FOR FURTHER INFORMATION CONTACT: Kim Okahara, U.S. Department of Education, 400 Maryland Avenue SW, Room 3E106, Washington, DC 20202. Telephone: (202) 453-6930. Email: kim.okahara@ed.gov.

If you use a telecommunications device for the deaf (TDD) or a text telephone (TTY), call the Federal Relay Service (FRS), toll free, at 1-800-877-8339.

SUPPLEMENTARY INFORMATION:

Purpose of Program: The CC program supports the establishment of not less than 20 CCs to provide capacity-building services to State educational agencies (SEAs), regional educational agencies (REAs), local educational agencies (LEAs), and schools that improve educational outcomes for all students, close achievement gaps, and improve the quality of instruction.

Program Authority: Section 203 of the Educational Technical Assistance Act of 2002 (ETAA) (20 U.S.C. 9601 et seq.).

We published a notice of proposed priorities, requirements, definitions, and performance measures (NPP) for this program in the Federal Register on September 28, 2018 (83 FR 49031). That notice contained background information and our reasons for proposing the particular priorities, requirements, definitions, and performance measures.

Public Comment: In response to our invitation in the NPP, we received 26 comments on the proposed priorities, requirements, definitions, and performance measures.

We group major issues according to subject matter. Generally, we do not address technical and other minor changes.

Analysis of Comments and Changes: There are differences between the NPP and this notice of final priorities, requirements, definitions, and performance measures (NFP). An analysis of the comments and of any changes in the priorities, requirements, definitions, and performance measures since publication of the NPP follows.

Proposed Priority and Program Requirements—Regional Centers

Comment: One commenter suggested that the CCs should support States in the effective application of research in the Elementary and Secondary Education Act of 1965, as amended by the Every Student Succeeds Act of 2015 (ESEA), Title III-funded initiatives involving English learners and immigrant students.

Discussion: Although we have not chosen to require Regional Centers or the National Center to support States in the implementation of ESEA Title III, nothing in this NFP precludes Centers from working with States on specific initiatives related to English learners. While we would encourage this work, we believe it is important to allow Centers the flexibility to be responsive to State needs.

Changes: None.

Comment: One commenter requested that we define the terms “intensive” and “targeted” capacity-building services. Another commenter recommended inclusion of definitions for short-, medium-, and long-term outcomes. Another commenter supported the proposed definition of “capacity building.”

Discussion: We appreciate the commenters' support and requests for clarification. We defined “intensive” and “targeted” capacity-building services and “outcomes” in the NPP, and clarify and finalize them in this NFP. We agree that expanding the definitions of short-, medium-, and long-term outcomes to include estimated timeframes can aid applicants in systematically planning, monitoring, and evaluating services. We expect applicants to use these definitions to drive decisions on proposed resources (e.g., staff) and proposed types of services (e.g., coaching). Furthermore, we expect applicants to develop clear, specific, and actionable evaluation questions that address the components, interrelationships, and timeframes (short-, medium-, and long-term) in the FY 2019 CC Logic Model. We also clarify “intensive” and seek to align the definition with the FY 2019 CC Logic Model.

Changes: We have revised the definition of “outcome” to include differentiation of “short-term, “medium-term,” and “long-term” outcomes. “Short-term outcomes” means effects of receiving capacity-building services after one year. “Medium-term outcomes” means effects of receiving capacity-building services after two to three years. “Long-term outcomes” means effects of receiving capacity-building services after four or more years. We have revised the definition of “intensive” to clarify that the term means assistance, as well as “periodic reflection, continuous feedback, and use of evidence-based improvement strategies.” We have also revised the definition of “intensive” to clarify that this category of capacity-building services should “result in medium-term and long-term outcomes.”

Comment: Several commenters raised concerns about CCs assisting States in addressing audit findings and corrective actions as a result of the Department's monitoring. A few commenters stated that Centers should not be required to ensure that States comply with Department regulations or enforce the Department's corrective actions as a result of monitoring and recommended clarifying the scope of the requirement. Some commenters also indicated that this requirement may negatively impact trust and working relationships between CCs and their respective clients and recipients. One commenter sought clarification on whether the requirement specified certain monitoring or audit findings.

Discussion: We agree that CCs should not enforce, and are prohibited from enforcing, compliance with Department-issued corrective actions or resolve audit findings as a result of the Department's monitoring. Further, we agree that it is outside the scope of the CC program for CCs to provide technical assistance on non-programmatic or repayment issues that arise in audits and other oversight reports. However, we believe CCs can, at the request of the client, identify and carry out capacity-building services that help States address corrective actions or audit findings that are programmatic in nature (e.g., developing policies and procedures to improve equitable resource allocation).

Changes: We have revised Priority 1—Regional Centers to clarify that CCs are permitted to provide, in response to a request from a client, capacity-building services designed to to help States address corrective actions resulting from audit findings and monitoring conducted by the Department.

Comment: Multiple commenters raised concerns about the Program Requirements for Regional Centers (6) for a full-time Project Director. One commenter agreed with the full-time Project Director requirement. Several commenters stated a full-time Project Director would reduce the budget available to hire qualified experts or consultants. Some commenters also emphasized that having a full-time Project Director may limit the Project Director from engaging in other work that might benefit the clients and recipients to be served. One commenter stated that some of the most talented and qualified individuals may not be available full-time and therefore could not serve as Project Directors.

Multiple commenters recommended changing the full-time Project Director requirement to 0.6-0.75 full-time equivalency (FTE) or to reduce the requirement significantly. Alternatively, one commenter recommended splitting the full-time Project Director requirement with a deputy director or senior advisor, noting the management structure in the Regional Educational Laboratory (REL) program as an example.

Discussion: We recognize the important role that Project Directors play in carrying out the priorities and requirements of the CC program. We appreciate the commenters' concerns and recognize that, in some cases, a full-time Project Director may hamper a CC's ability to recruit and retain experts to meet State needs. Accordingly, to allow the Centers more flexibility, we are revising the requirement to provide Centers the option to have one person serve as Project Director on a nearly full-time basis or to have Co-Project Directors serving on a half-time basis. An applicant must be able to demonstrate that the proposed Project Director or proposed Co-Project Directors are able to lead and manage all aspects of the Center's work.

Changes: We have revised the Program Requirements for Regional Centers (6) Project Director requirement to give applicants two options: (i) One at minimum 0.75 FTE Project Director or (ii) two at minimum 0.5 FTE Co-Project Directors.

Comment: Multiple commenters requested to remove the requirement that the Project Director be located in the Center's assigned region.

Several commenters expressed that qualified Project Directors may not live in a State served by the Regional Center but may be physically closer to clients served by that Regional Center. One commenter stated that a Project Director may connect remotely to their respective clients and recipients, and therefore does not need to reside in the region.

Other commenters expressed support for the Department's requirement to have Project Directors located in their assigned regions.

Discussion: We appreciate both the commenters who supported this requirement and the commenters that believe the Department should remove it.

Upon further examination of this issue, for maximum flexibility, we are removing the Project Director residency requirement and revising the Application Requirements for All Centers (6) regarding the Regional Centers' communications plans. We believe these changes will provide the flexibility that some commenters sought in the operation of their Centers while continuing to emphasize our belief that cultivating in-person relationships with clients, recipients, and partners that are knowledgeable of the identified needs for that region is critical to the successful operation of any Regional Center.

Changes: We have removed the Project Director residency requirement under the Program Requirements for Regional Centers (6). In place of the requirement, we have revised the Application Requirement for All Centers (5) to request that an applicant describe its plan to continuously cultivate in-person relationships with clients, recipients, and partners that are knowledgeable of the identified needs for that region.

Comment: One commenter stated that Regional Center staff should be located in the region.

Discussion: We disagree with the commenter. To ensure maximum flexibility in the successful operation of the Centers, we believe that Regional Center staff should not be required to be located in the region. To this end, we have also removed the residency requirement for the Project Director. Key personnel must, however, be able to provide on-site services at the intensity and duration appropriate to achieve agreed-upon milestones, outputs, and outcomes described in State service plans.

Changes: None.

Comment: One commenter requested clarification on whether the applicant needs to be physically based in the region. A couple of commenters supported the requirement that the entity be physically located in the region.

Discussion: We appreciate the commenters that supported the requirement for the applicant to be physically located in the region. We reaffirm the requirement that the applicant must be located in the region to which it applies.

Changes: None.

Comment: One commentor sought clarification on who the client is for the Regional Centers.

Discussion: We clarify that the client refers to the Chief State School Officer (CSSO) or his or her designee.

Changes: None.

Comment: One commenter expressed concern that, under the Proposed Requirements for Regional Centers (2) and (4), LEAs could request intensive services from Regional Centers without prior consultation or approval from the CSSO or designees (clients). Some commenters agreed with providing capacity-building services to LEAs, in collaboration with SEAs, to implement programs funded under ESEA.

Discussion: We appreciate this concern and clarify that Regional Centers, consistent with Program Requirements for Regional Centers (1), must demonstrate that they have consulted and garnered commitment from CSSOs or their designees prior to carrying out capacity-building services. CSSOs or their designees are the Regional Centers' clients and will work with their respective Center to identify recipients of services (i.e., teams at the SEA-, REA-, LEA-, or school-level).

Changes: None.

Comment: Multiple commenters stated that the Department should preserve the FY 2012 Regional Center configuration outlined in the CC notice inviting applications for new awards for FY 2013, published in the Federal Register on June 6, 2012 (77 FR 33564).

Discussion: While we appreciate the commenters' request to preserve the FY 2012 regional configuration, we believe that by reducing the number of States assigned to each Regional Center, Regional Centers can more effectively support their assigned States in implementing and scaling-up of evidence-based programs, practices, and interventions.

Changes: None.

Comment: Some commenters expressed that the proposed FY 2019 regional configuration of State assignments would be detrimental to their States' ability to implement State and Federal programs because they have built long-standing, collaborative relationships with other States.

Similarly, two State commenters requested to stay in their existing FY 2012 regional configuration in order to limit disruption to working relationships among SEAs.

Discussion: We recognize the importance of positive, collaborative working relationships among States. However, nothing in the priority or the requirements precludes any State from partnering with another State, or from working with the National Center to request capacity-building services involving another State regardless of regional assignment. Nevertheless, we understand the commenters' concern and believe that should a State determine, after earnest negotiation with its assigned Regional Center, that the Regional Center is not able to meet its needs (e.g., the Regional Center is not able to secure appropriate experts to meet a State's needs), a State should have flexibility to request to be assigned to a different Regional Center. To that end, the Department intends to include in the FY 2019 notice inviting applications for this program the provisions under Flexibility and Requirements for Regional Center Assignments established in the notice of final priorities, requirements, and selection criteria-Comprehensive Centers Program published in the Federal Register on June 6, 2012 (77 FR 33573), which allow an SEA, in any fiscal year, to indicate to the Department its desire to affiliate with a different Regional Center, regardless of the geographic location of that Center. A State could exercise this option once in any two-year period.

Changes: None.

Comment: Multiple commenters submitted alternative regional configurations. Some commenters recommended grouping States that have similar characteristics, such as school-age populations, proportion of economically disadvantaged students, and comparable increased costs to service rural areas. Other commenters expressed support for the FY 2019 regional configuration.

Discussion: We appreciate the expressions of support for the proposed FY 2019 regional configuration. We believe that such regional configurations would increase administrative and travel costs, ultimately resulting in reduced services to States. Furthermore, the National Center will have the responsibility to convene States—including, as appropriate, those States that share similar characteristics so that such States can discuss common high-leverage problems (e.g., addressing educator shortages in sparsely populated areas). For these reasons, we decline to revise our proposed configuration to assign Regional Centers to non-contiguous States that share similar characteristics.

Changes: None.

Comment: Several commenters stated that Regional Centers that serve sparsely populated States will not have adequate funding, resulting in limited access to resources. The same commenters requested that we provide adequate funding to those Regional Centers to account for the increased costs of service delivery in areas of sparse population.

Discussion: We agree with the commenters' request to ensure that Regional Centers that serve rural populations are funded at an adequate level. In order to ensure that Regional Centers can meet the unique needs of clients and recipients in their assigned region, we plan to institute a minimum award amount of $1,000,000 for each Regional Center contingent on CC funding. This award amount should enable Regional Centers that serve rural areas to account for the increased cost burdens of service delivery. In addition, and consistent with section 203 of the ETAA (20 U.S.C. 9601 et seq.), we consider the school-age population, proportion of economically disadvantaged students, and the increased costs of service delivery in areas of sparse population when determining the amount of funds to make available to each Regional Center.

Changes: None.

Comment: One commenter expressed a concern that Regional Centers serving sparsely populated States may not have access to appropriate experts needed to carry out effective capacity-building services.

Discussion: Consistent with the Application Requirements for All Centers (3), all entities must be able to demonstrate in their application and throughout the grant period that they can effectively secure the services of experts and other consultants to address identified and emerging State needs. Nothing in Priority 1—Regional Centers or the Program Requirements for Regional Centers precludes Regional Centers from securing appropriate expertise, such as through subgrants or contracts, with entities or individuals in order to carry out capacity-building services.

Changes: None.

Comment: Some commenters suggested that Regional Centers should be aligned with the RELs.

Discussion: Consistent with the ETAA, in establishing CC regions, the Department considers their alignment with the 10 geographic regions served by the RELs established under section 941(h) of the Educational Research, Development, Dissemination, and Improvement Act of 1994 (see section 203(a)(2)(A) of the ETAA). To facilitate collaboration among RELs and CCs, we believe further alignment between the Regional Centers configuration will increase the likelihood that coordination among capacity-building services occurs.

Changes: We have revised Region 3 to serve Puerto Rico and the Virgin Islands. We have revised Region 7 to serve Alabama, Florida, and Mississippi. We have revised Region 11 to serve Nebraska, North Dakota, South Dakota, and Wyoming. We have revised Region 12 to serve Colorado, Kansas, and Missouri. We have revised Region 13 to serve Bureau of Indian Education (BIE), New Mexico, and Oklahoma. We have revised Region 15 to serve Arizona, California, Nevada, and Utah.

Comment: Some commenters suggested that, in addition to providing intensive capacity-building services, Regional Centers should also provide targeted capacity-building services.

Discussion: We believe allowing Regional Centers to provide targeted capacity-building services could result in duplication of efforts and that the National Center is best positioned to provide targeted capacity-building services to eligible recipients with like needs. States also have the option to request services directly from the National Center.

Changes: None.

Comment: Some commenters supported the Department in directing CCs to provide assistance in the areas of evidence-based practices, professional development models, and unique issues facing rural and remote districts and schools.

Discussion: We appreciate and share the commenters' interest in assisting States in the implementation of evidence-based practices, professional development models, and support to sparsely populated areas.

Changes: None.

Comment: One commenter stated that although the proposed priorities may decrease duplication of services provided by the Regional Centers and the National Center (e.g., the National Center, by providing learning opportunities on English language learners nationally in comparison to multiple Regional Centers providing similar learning opportunities for their respective States), they may also increase bureaucracy, explaining that if the Content Centers established by the FY 2012 Comprehensive Centers competition were preserved, such services could be provided to address State issues.

Discussion: We maintain that the FY 2019 configuration enables greater flexibility for Centers to provide differentiated and coordinated supports to all States. By eliminating the seven Content Centers, we believe that we will minimize duplication of resource development and learning opportunities to States.

Changes: None.

Comment: One commenter asserted that Regional Centers must have appropriate expertise, including, but not limited to, expertise in balancing budgets.

Discussion: We agree that Regional Centers should have this expertise. Pursuant to Application Requirements for All Centers (3)(i)-(iv), applicants must demonstrate expertise in the following areas: Managing budgets, performance management processes, root-cause analysis, and monitoring and evaluation.

Changes: None.

Comments: Some commenters sought clarification on the differences between the REL program and the CC program.

Discussion: The CC program emphasizes the delivery of capacity-building services that support implementation of State-identified initiatives (i.e., conducting a needs assessment, developing a logic model, identifying evidence-based strategies, practices, and interventions, planning for implementation and implementing evidence-based strategies, practices, and interventions, and monitoring for continous improvement). In contrast to the CC program, the REL program emphasizes applied research, development, and dissemination of educational innovations, and evaluation of the effectiveness of educational innovations. REL services assist States, districts, and other stakeholders in conducting applied research, providing support and training for the application of research to education problems, and disseminating credible, up‐to‐date research on the efficacy of educational innovations. For more information, visit https://ies.ed.gov/ncee/edlabs/.

Changes: None.

Comment: Some commenters expressed concerns that requiring, as part of the application, a memorandum of understanding (MOU) with entities that operate RELs in the region to which they are applying may unfairly advantage those entities that currently operate an REL or introduce conflicts of interest, such as an entity not agreeing to execute MOUs for competing entities prior to award.

Discussion: We agree with the commenters that expressed concern that requiring an entity to submit an MOU as part of its application may introduce conflicts of interest for any entity that currently operates an REL.

Changes: We have removed Application Requirements for All Centers (4). We have revised the Program Requirements for Regional Centers (5) to include submission of copies of MOU(s) with REL(s) and other Department-funded technical assistance providers within 90 days of receiving an award.

Comment: Another commenter sought clarification on how the Department or CCs would conduct needs assessments to determine State priorities.

Discussion: We clarify that the Department will not be conducting needs assessments. Rather, as outlined in Application Requirements for All Centers (3)(iii) and Program Requirements for Regional Centers (1), Regional Centers must work with their assigned States to conduct needs assessments.

Changes: None.

Comment: Another commenter expressed that the CCs may have a significant positive impact for small businesses and their employees.

Discussion: We agree with the commenter that small businesses and their employees may benefit from this program. Consistent with Program Requirements for Regional Centers (5), Regional Centers are required to identify and enter into partnership agreements with, among other entities, businesses and industry with the purpose of supporting States in the implementation and scale-up of evidence-based programs, practices, and interventions, as well as reducing duplication of services to States.

Changes: None.

Comment: Some commenters asked if Regional Centers could make resources or staff available to all States should Regional Centers or their staff have expertise in a specific area.

Discussion: Nothing precludes a State from requesting that its assigned Regional Center procure experts that may be affiliated with another Regional Center or National Center. The National Center, however, has the sole responsibility to develop and widely disseminate resources to all States.

Changes: None.

Proposed Priority and Program Requirements—National Center

Comment: One commenter supported the Department's emphasis on helping States serve students from low-income families.

Discussion: We appreciate the commenter's support on emphasizing services to States that serve students from low-income families.

Changes: None.

Comment: Some commenters contended that the services to be offered by the National Center are duplicative and would not add significant value. One commenter added that the education field does not lack the types of resources or services that the National Center may provide. Other commenters expressed support for the types of services the National Center would provide.

Discussion: We appreciate the commenters' support for the types of services the National Center would provide. We further note that, contrary to the assertion of some commenters, the National Center is specifically designed to minimize duplication of services in the CC program and to provide demand-driven resources, that, by definition, are unlikely to be available elsewhere and thus will be of significant value to State clients. The National Center will deliver services to State clients and identified recipients to address common high-leverage programs, implementation challenges, and emerging needs, such as but not limited to expanding school choice. Accordingly, the National Center will only create resources that address common client needs, identified in coordination with Regional Centers. The National Center will also be responsible for coordinating experts, internal and external to the CC network, to provide targeted capacity-building services to States, as defined in this notice.

Changes: None.

Comment: Some commenters sought clarification on whether there will be a centralized place that displays upcoming events and opportunities from Regional Centers and if any State or Regional Center may participate in events or opportunities carried out by the National Center.

Discussion: The Department is always trying to disseminate information more widely. We note that the Program Requirements for the National Center (2), (4), and (5) outline requirements to maintain the CC network website and disseminate information. This website will provide all States and Regional Centers with access to upcoming events and State service plans, as appropriate. Regional Centers may participate in National Center activities, at the request of the client or Department.

Changes: None.

Comment: One commenter sought clarification on Regional and National Center collaboration.

Discussion: Program Requirements for Regional Centers (4) requires Regional Centers to collaborate with the National Center to support client and recipient participation in learning opportunities (e.g., communities of practices, leadership academies, and convenings). The cooperative agreement will outline specific requirements regarding collaboration between Regional Centers and the National Center.

Changes: None.

Comment: One commenter stated that the National Center should not be charged with addressing audit findings.

Discussion: We agree that the National Center should not be responsible for addressing or enforcing the resolution of corrective actions or audit findings as a result of the Department's monitoring. Further, we agree that it is outside the scope of the CC program for CC's to provide technical assistance on non-programmatic or repayment issues that arise in audits and other oversight reports. However, we believe that identifying common services to help address findings from finalized Department monitoring reports or audit findings related to programmatic issues is an appropriate role for the National Center.

Changes: None.

Comment: Another commenter stated that the National Center is counterintuitive and not useful for States that believe strongly in States' rights and local control.

Discussion: We agree that State and local control are important in our Nation's education system. While the National Center is intended to provide targeted and universal capacity-building services to all States, participation in those opportunities and events is entirely voluntary.

Changes: None.

Comment: One commenter suggested a second National Center that would focus exclusively on evidence-based programs and practices.

Discussion: While we appreciate the suggestion, we reject the commenter's recommendation to create a second National Center. All Regional Centers must work with States to identify, implement, and sustain evidence-based practices that support improved educator and student outcomes. To that end, the National Center will help develop and disseminate resources that support the use of evidence-based practices. Therefore, we believe a second National Center focused exclusively on evidence-based practices would be duplicative.

Changes: None.

Proposed Program Logic Model

Comment: Several commenters suggested revisions to the proposed logic model, including: Adding increased equity and reduction of disproportionalities; changing improved educational opportunities to include access to current and future learning experiences for the child's developmental stage and back-filling learning opportunities; including that learning relies on funds of knowledge; modifying disadvantaged student to consider hindrances to excelling at school; and modifying improved learning outcomes to include expanded outcomes beyond academics.

Discussion: We appreciate the commenters' suggestions. The FY 2019 CC Logic Model places a renewed focus on economically disadvantaged students and schools and implementing comprehensive support and improvement activities and targeted support and improvement activities under section 1111(d) of the ESEA as required by the ETAA. Nothing precludes CCs, however, from providing capacity-building services to support the administration and implementation of programs authorized under the ESEA for all students. Accordingly, we reject the recommendations to modify the logic model in order to account for all potential services the CCs may provide for States and clients.

Changes: None.

Comment: Some commenters stated that there is a disconnect in the logic model target population of disadvantaged and low-income students and the requirements language, such as mentioning students from low-income families and disadvantaged students in the FY 2019 CC Logic Model and only mentioning students from low-income families in Priority 1—Regional Centers.

Discussion: We share the commenters' concern to align the FY 2019 CC Logic Model with the appropriate target populations and seek to align the FY 2019 CC Logic Model with the priorities described in this notice. If Centers provide appropriate capacity-building services to SEAs, LEAs, REAs, and schools, then individual and organizational capacity to implement school improvement programs may improve. If SEAs, LEAs, REAs, and schools improve the implementation of school improvement programs (medium-term outcomes), then educational opportunities for all students may improve (long-term outcomes). In order to clarify and align target populations, we are revising Priority 1—Regional Centers to include “disadvantaged students.” The revision makes the Priority 1Regional Centers consistent with the mid- and long-term outcome target populations of “disadvantaged and low-income students” described in the FY 2019 CC Logic Model.

Changes: We have modified Priority 1—Regional Centers (1) to include “disadvantaged students.”

Final Priorities

This notice contains two priorities. The Assistant Secretary may use one or both of these priorities for the FY 2019 CC program competition or for any subsequent competitions.

Priority 1—Regional Centers

Under this priority, applicants must demonstrate the following—

Regional Centers must provide high-quality intensive capacity-building services to State clients and recipients to identify, implement, and sustain effective evidence-based (as defined in 34 CFR 77.1) programs, practices, and interventions that support improved educator and student outcomes. As appropriate, capacity-building services must assist clients and recipients in: (1) Carrying out Consolidated State Plans approved under the Elementary and Secondary Education Act of 1965, as amended by the Every Student Succeeds Act of 2015 (ESEA), with preference given to the implementation and scaling up of evidence-based programs, practices, and interventions that directly benefit recipients that have disadvantaged students or high percentages or numbers of students from low-income families as referenced in Title I, Part A of the ESEA (ESEA secs. 1113(a)(5) and 1111(d)) and recipients that are implementing comprehensive support and improvement activities or targeted support and improvement activities as referenced in Title I, Part A of the ESEA (ESEA sec. 1111(d)); (2) implementing and scaling-up evidence-based programs, practices, and interventions that address the unique educational obstacles faced by rural populations; (3) identifying and carrying out capacity-building services to clients that help States address corrective actions or results from audit findings and monitoring, conducted by the Department, that are programmatic in nature, at the request of the client; and (4) working with the National Center to identify trends and best practices, and develop cost-effective strategies to make their work available to as many REAs, LEAs, and schools in need of support as possible.

Applicants must propose to operate a Regional Center in one of the following regions:

Region 1: Massachusetts, Maine, New Hampshire, Vermont

Region 2: Connecticut, New York, Rhode Island

Region 3: Puerto Rico, Virgin Islands

Region 4: Delaware, District of Columbia, Maryland, New Jersey, Pennsylvania

Region 5: Kentucky, Tennessee, Virginia, West Virginia

Region 6: Georgia, North Carolina, South Carolina

Region 7: Alabama, Florida, Mississippi

Region 8: Indiana, Michigan, Ohio

Region 9: Illinois, Iowa

Region 10: Minnesota, Wisconsin

Region 11: Nebraska, North Dakota, South Dakota, Wyoming

Region 12: Colorado, Kansas, Missouri

Region 13: Bureau of Indian Education, New Mexico, Oklahoma

Region 14: Arkansas, Louisiana, Texas

Region 15: Arizona, California, Nevada, Utah

Region 16: Alaska, Oregon, Washington

Region 17: Idaho, Montana

Region 18: Commonwealth of the Northern Mariana Islands, Federated States of Micronesia, Guam, Palau

Region 19: American Samoa, Hawaii, Republic of the Marshall Islands

Priority 2—National Center

Under this priority, applicants must demonstrate the following—

The National Center must provide high-quality universal (e.g., policy briefs) and targeted (e.g., peer-to-peer exchanges and communities of practice that convene SEAs, REAs, LEAs, and schools on a particular topic) capacity-building services to address the following: Common high-leverage problems identified in Regional Center State service plans (as outlined in the Program Requirements for the National Center (1)), common services to help address findings from finalized Department monitoring reports or audit findings, common implementation challenges faced by States and Regional Centers, and emerging national education trends.

As appropriate, universal and targeted capacity-building services must assist Regional Center clients and recipients to: (1) Implement approved ESEA Consolidated State Plans, with preference given to implementing and scaling evidence-based programs, practices, and interventions that directly benefit entities that have high percentages or numbers of students from low-income families as referenced in Title I, Part A of the ESEA (ESEA sec. 1113(a)(5) and 1111(d)) and recipients that are implementing comprehensive support and improvement activities or targeted support and improvement activities as referenced in Title I, Part A of the ESEA (ESEA sec. 1111(d)); and (2) implement and scale up evidence-based programs, practices, and interventions that address the unique educational obstacles faced by rural populations. The work of the National Center must include the implementation of effective strategies for reaching and supporting as many SEAs, REAs, LEAs, and schools in need of services as possible.

Types of Priorities

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Requirements

The Assistant Secretary establishes the following requirements for the Comprehensive Centers program.

Program Requirements for Regional Centers: Applicants that receive grants under this program must:

(1) Develop State service plans annually in consultation with each State's Chief State School Officers that includes the following elements: High-leverage problems to be addressed, phase of implementation (e.g., needs assessment), capacity-building services to be delivered, key personnel responsible, key Department-funded technical assistance partners, milestones, outputs, outcomes, and, if appropriate, fidelity measures. The annual State service plans must be an update to the Regional Center's five-year plan submitted as part of the Regional Center's application. The annual State service plan elements must also correspond to the relevant sections of the FY 2019 CC Logic Model.

(2) Develop and implement an effective personnel management system that enables the Regional Center to efficiently obtain and retain the services of nationally recognized content experts and other consultants with direct experience working with SEAs, REAs, and LEAs. Personnel must demonstrate that they have the appropriate expertise to deliver quality, intensive services that meet client and recipient needs similar to those in the region to be served.

(3) Develop and implement an effective communications system that enables routine and ongoing exploration of client and recipient needs as well as feedback on services provided. The system must enable routine monitoring of progress toward agreed-upon outcomes, outputs, and milestones; periodic assessment of client satisfaction; and timely identification of changes in State contexts that may impact the success of the project. The communications system must include processes for outreach activities (e.g., regular promotion of services and products to clients and potential and current recipients, particularly at the local level), regular engagement and coordination with the National Center and partner organizations (e.g., other federally funded technical assistance providers), use of feedback loops across organizational levels (Federal, State, and local), and regular engagement of stakeholders involved in or impacted by proposed services.

(4) Collaborate with the National Center to support client and recipient participation in learning opportunities (e.g., multi-State and cross-regional peer-to-peer exchanges on high-leverage problems) and support participation of Regional Center staff in learning opportunities (e.g., peer-to-peer exchanges on effective coaching systems), with the goal of reaching as many REAs, LEAs, and schools in need of services as possible while also providing high-quality services.

(5) Identify and enter into partnership agreements with national organizations, businesses, and industry for the purpose of supporting States in the implementation and scaling-up of evidence-based programs, practices, and interventions, as well as reducing duplication of services to States. Within 90 days of receiving funding for an award, provide copies of MOU(s) with the REL(s) in the region that the Center serves and Department-funded technical assistance providers that are charged with supporting comprehensive, systemic changes in States or Department-funded technical assistance providers with particular expertise (e.g., early learning or instruction for English language learners).

(6) Be located in the region the Center serves. The Project Director must be capable of managing all aspects of the Center and be either at minimum 0.75 FTE or there must be two Co-Project Directors each at minimum 0.5 FTE. The Project Director or Co-Project Directors and key personnel must also be able to provide on-site services at the intensity, duration, and modality appropriate to achieving agreed-upon milestones, outputs, and outcomes described in annual State service plans.

(7) Within 90 days of receiving funding for an award, demonstrate that it has secured client and partner commitments to carry out proposed State service plans.

Program Requirements for the National Center

(1) Develop a national service plan annually in consultation with the Department and Regional Centers. The national service plan must take into account commonalities in identified high-leverage problems in State service plans, finalized Department monitoring and audit findings, implementation challenges faced by Regional Centers and States, and emerging national education trends. The annual national service plan must be an update to the Center's five-year plan submitted as part of the Center's application. The annual national service plan must include, at a minimum, the following elements: High-leverage problems to be addressed, capacity-building services to be delivered, key personnel responsible, milestones, outputs, and outcome measures. The annual national service plan must also include evidence that the Center involved Regional Centers in identifying targeted and universal services that complement Regional Center services to improve client and recipient capacity.

(2) Maintain the CC network website with an easy-to-navigate design that meets government or industry-recognized standards for accessibility.

(3) Develop and implement an effective personnel management system that enables the Center to retain and efficiently obtain the services of education practitioners, researchers, policy professionals, and other consultants with direct experience with SEAs, REAs, and LEAs. Personnel must have a proven record of publishing in peer-reviewed journals, presenting at national conferences, and/or delivering quality adult learning experiences that meet client and recipient needs.

(4) Disseminate information (e.g., instructional videos, toolkits, and briefs) and evidence-based practices to a variety of education stakeholders, including the general public, via multiple mechanisms such as the CC network website, social media, and other channels as appropriate.

(5) Disseminate State service plans, Center annual performance reports, and other materials through the CC network website and other channels as appropriate.

(6) Collaborate with Regional Centers to implement learning opportunities for recipients (e.g., multi-State and cross-regional peer-to-peer exchanges on high-leverage problems) and develop learning opportunities for Regional Center staff to address implementation challenges (e.g., peer-to-peer exchanges on effective coaching systems for English language learners).

(7) Develop and implement an effective communications system that enables routine and ongoing exploration of Regional Center client and recipient needs. The system must enable routine monitoring of progress toward agreed-upon outcomes, outputs, and milestones; periodic assessment of client satisfaction; and timely identification of changes in Federal or State contexts that may impact success of the project. The communications system must include processes for outreach activities (e.g., regular promotion of services and products to clients and potential and current recipients), use of feedback loops across organizational levels (Federal, State, and local), regular engagement and coordination with the Department, Regional Centers, and partner organizations (e.g., federally funded technical assistance providers), and engagement of stakeholders involved in or impacted by proposed school improvement activities.

(8) Identify potential partners and enter into partnership agreements with other federally funded technical assistance providers, industry, national associations, and other organizations to support the implementation and scaling-up of evidence-based programs, practices, and interventions.

(9) Identify a Project Director that is either at minimum 0.75 FTE or two Co-Project Directors at minimum 0.5 FTE capable of managing all aspects of the CC.

(10) Within 90 days of receiving funding for an award, demonstrate that it has secured client and partner commitments to carry out the proposed national service plan.

Final Application Requirements

All Centers

(1) Present applicable State, regional, and local data demonstrating the current needs related to building capacity to implement and scale up evidence-based programs, practices, and interventions. Reference, as appropriate, information related to the Department's finalized monitoring and audit findings.

(2) Demonstrate expert knowledge of statutory requirements, regulations, and policies related to programs authorized under ESEA and current education issues and policy initiatives for supporting the implementation and scaling up of evidence-based programs, practices, and interventions.

(3) Consistent with the priorities and requirements for this program, demonstrate expertise and experience in the following areas:

(i) Managing budgets; selecting, coordinating, and overseeing multiple consultant and sub-contractor teams; and leading large-scale projects to deliver tools, training, and other services to governments, agencies, communities, businesses, schools, or other organizations.

(ii) Designing and implementing performance management processes with staff, subcontractors, and consultants that enable effective hiring, developing, supervising, and retaining a team of subject-matter experts and professional staff.

(iii) Identifying problems and conducting root-cause analysis; developing and implementing logic models, organizational assessments, strategic plans, and process improvements; and sustaining the use of evidence-based programs, practices, and interventions.

(iv) Monitoring and evaluating activities, including, but not limited to: Compiling data, conducting interviews, developing tools to enhance capacity-building approaches, conducting data analysis using statistical software, interpreting results from data using widely acceptable quantitative and qualitative methods, and developing evaluation reports.

(4) Describe the current research on adult learning principles, coaching, and implementation science that will inform the applicant's capacity-building services, including how the applicant will promote self-sufficiency and sustainability of State-led school improvement activities.

(5) Present a proposed communications plan for working with appropriate levels of the education system (e.g., SEAs, REAs, LEAs, and/or schools) to ensure there is communication between each level and that there are processes in place to support, and continuously assess, the implementation of evidence-based programs, practices, and interventions. The applicant must describe how it will engage in meaningful consultation with a broad range of stakeholders (e.g., principals, teachers, families, community members). The ideal applicant will propose effective strategies for receiving ongoing and timely input on the needs of its clients and the usefulness of its services and describe how it will continuously cultivate in-person relationships with clients, recipients, and partners that are knowledgeable of the identified needs for that region.

(6) Present a proposed evaluation plan for the project. The evaluation plan must describe the criteria for determining the extent to which: Milestones were met; outputs were met; recipient outcomes (short-term, mid-term, and long-term) were met; and capacity-building services proposed in State service plans were implemented as intended.

(7) Present a logic model informed by research or evaluation findings that demonstrates a rationale (as defined in 34 CFR 77.1) explaining how the project is likely to improve or achieve relevant and expected outcomes. This logic model must align with the FY 2019 CC Logic Model, communicate how the project will achieve its expected outcomes (short-term, mid-term, and long-term), and provide a framework for both the formative and summative evaluations of the project consistent with the applicant's evaluation plan. Include a description of underlying concepts, assumptions, expectations, beliefs, and theories, as well as the relationships and linkages among these variables, and any empirical support for this framework.

(8) Include an assurance that, if awarded a grant, the applicant will assist the Department with the transfer of pertinent resources and products and maintain the continuity of services to States during the transition to this new award period, as appropriate, including by working with the FY 2012 Comprehensive Center on Building State Capacity and Productivity to migrate products, resources, and other relevant project information to the National Center's Comprehensive Center network website.

Regional Centers

In addition to meeting the Application Requirements for All Centers, a Regional Center applicant must—

(1) describe the proposed approach to intensive capacity-building services, including identification of intended recipients and alignment of proposed capacity-building services to meet client needs. The applicant must also describe how it intends to measure the readiness of clients and recipients to work with the applicant; measure client and recipient capacity across the four capacity-building dimensions, including available resources; and measure the ability of the client and recipients to build capacity at the local level.

National Center

In addition to meeting the application requirements for all Centers, a National Center applicant must—

(1) Demonstrate expertise and experience in leading digital engagement strategies to attract and sustain involvement of education stakeholders, including, but not limited to: Implementing a robust web and social media presence, overseeing customer relations management, providing editorial support, and collecting and analyzing web analytics.

(2) Describe the intended recipients of and the proposed approach to targeted capacity-building services, including how the applicant intends to collaborate with Regional Centers to identify potential recipients and how many it has the capacity to reach; measure the readiness and capacity of potential recipients across the four dimensions of capacity-building services; and continuously engage potential recipients over the five-year period.

(3) Describe the intended recipients of and the proposed approach to universal capacity-building services, including how many recipients it plans to reach and how the applicant intends to: Measure the quality of the products and services developed to address common high-leverage problems; support recipients in the selection, implementation, and monitoring of evidence-based practices and interventions; and improve knowledge of emerging national education trends.

Final Definitions

The Assistant Secretary establishes the following definitions for the purposes of the Comprehensive Centers program. We may apply one or more of these definitions in any year in which this program is in effect.

Capacity-building services means assistance that strengthens an individual's or organization's ability to engage in continuous improvement and achieve expected outcomes.

The four dimensions of capacity-building services are:

(1) Human capacity means development or improvement of individual knowledge, skills, technical expertise, and ability to adapt and be resilient to policy and leadership changes.

(2) Organizational capacity means structures that support clear communication and a shared understanding of an organization's visions and goals, and delineated individual roles and responsibilities in functional areas.

(3) Policy capacity means structures that support alignment, differentiation, or enactment of local, State, and Federal policies and initiatives.

(4) Resource capacity means tangible materials and assets that support alignment and use of Federal, State, private, and local funds.

The three tiers of capacity-building services are:

(1) Intensive means assistance often provided on-site and requiring a stable, ongoing relationship between the Regional Center and its clients and recipients, as well as periodic reflection, continuous feedback, and use of evidence-based improvement strategies. This category of capacity-building services should support increased recipient capacity in more than one capacity dimension and result in medium-term and long-term outcomes at one or more system levels.

(2) Targeted means assistance based on needs common to multiple clients and recipients and not extensively individualized. A relationship is established between the recipient(s), the National Center, and Regional Center(s) as appropriate. This category of capacity-building services includes one-time, labor-intensive events, such as facilitating strategic planning or hosting national or regional conferences. It can also include less labor-intensive events that extend over a period of time, such as facilitating a series of conference calls on single or multiple topics that are designed around the needs of the recipients. Facilitating communities of practice can also be considered targeted capacity-building services.

(3) Universal means assistance and information provided to independent users through their own initiative, involving minimal interaction with National Center staff and including one-time, invited or offered conference presentations by National Center staff. This category of capacity-building services also includes information or products, such as newsletters, guidebooks, policy briefs, or research syntheses, downloaded from the Center's website by independent users. Brief communications by National Center staff with recipients, either by telephone or email, are also considered universal services.

High-leverage problems means problems that (1) if addressed could result in substantial improvements for many students or for key subgroups of students as defined in ESEA sections 1111(c) and (d); (2) are priorities for education policymakers, particularly at the State level; and (3) require intensive capacity-building services to achieve outcomes that address the problem.

Milestone means an activity that must be completed. Examples include: Identifying key district administrators responsible for professional development, sharing key observations from needs assessment with district administrators and identified stakeholders, preparing a logic model, planning for State-wide professional development, identifying subject matter experts, and conducting train-the-trainer sessions.

Outcomes means effects of receiving capacity-building services. Examples include: 95 percent of district administrators reported increased knowledge; two districts reported improved cross-agency coordination; and three districts reported identification of 2.0 FTE responsible for professional development.

(1) Short-term outcomes means effects of receiving capacity-building services after 1 year consistent with the FY 2019 CC Logic Model.

(2) Medium-term outcomes means effects of receiving capacity-building services after 2 to 3 years consistent with the FY 2019 CC Logic Model.

(3) Long-term outcomes means effects of receiving capacity-building services after 4 or more years consistent with the FY 2019 CC Logic Model.

Outputs means products and services that must be completed. Examples include: Needs assessment, logic model, training modules, evaluation plan, and 12 workshop presentations.

Note: A product output under this program would be considered a deliverable under the open licensing regulations at 2 CFR 3474.20.

Regional educational agency, for the purposes of the Comprehensive Centers program, means “Tribal Educational Agency” as defined in ESEA section 6132(b)(3), as well as other educational agencies that serve regional areas.

Service plan project means a series of interconnected capacity-building services designed to achieve recipient outcomes and outputs. A service plan project includes, but is not limited to, a well-defined high-leverage problem, an approach to capacity-building services, intended recipients, key personnel, expected outcomes, expected outputs, and milestones.

Final Performance Measures

Background: We are issuing these final performance measures after providing the public with an opportunity to comment on them through the NPP. Although we are not required to use notice and comment rulemaking to develop or change performance measures, we believed receiving public input on the FY 2019 performance measures may result in better informed performance measures.

Final Performance Measures

Measure 1: The extent to which Comprehensive Center clients are satisfied with the quality, usefulness, and relevance of services provided.

Measure 2: The extent to which Comprehensive Centers provide services and products to a wide range of recipients.

Measure 3: The extent to which Comprehensive Centers demonstrate that capacity-building services were implemented as intended.

Measure 4: The extent to which Comprehensive Centers demonstrate recipient outcomes were met.

Note: This document does not solicit applications. In any year in which we choose to use these priorities, requirements, definitions, and performance measures, we invite applications through a notice in the Federal Register.

FY 2019 Comprehensive Centers Program Logic Model

Figure 1 is a diagram of the FY 2019 CC Logic Model. A logic model refers to a framework that identifies key project components, inputs, processes, outputs, and short-, mid-, and long-term outcomes and impacts and describes the theoretical and operational relationships among the key project components and relevant outcomes. The FY 2019 CC Logic Model inputs include but are not limited to SEA and LEA staff, implementation and organizational expertise, content area expertise, and Federal funding, staff, and regulations. Processes include capacity-building services that help recipients to develop needs assessments and logic models, select evidence-based practices, and plan for and assist in the implementation of evidence-based practices. Outputs include products, data, and information to assist in the implementation and evaluation of evidence-based practices, such as needs assessments and logic models. Short-term outcomes include increased individual and organizational capacity in four dimensions: Human, organizational, policy, and resource. Mid-term outcomes include improving SEA and LEA capacity to plan, implement, and evaluate school improvement programs in order to improve policies, practices, and systems to implement and evaluate school improvement programs. Long-term outcomes include improved educational opportunities and academic outcomes for disadvantaged and low-income students.

BILLING CODE 4000-01-P

BILLING CODE 4000-01-C

Executive Orders 12866, 13563, and 13771

Regulatory Impact Analysis

Under Executive Order 12866, it must be determined whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or Tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This final regulatory action is not a significant regulatory action subject to review by OMB under section 3(f) of Executive Order 12866.

Under Executive Order 13771, for each new regulation that the Department proposes for notice and comment or otherwise promulgates that is a significant regulatory action under Executive Order 12866, and that imposes total costs greater than zero, it must identify two deregulatory actions. For FY 2019, any new incremental costs associated with a new regulation must be fully offset by the elimination of existing costs through deregulatory actions. Because the proposed regulatory action is not significant, the requirements of Executive Order 13771 do not apply.

We have also reviewed this final regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing these final priorities, requirements, definitions, and performance measures only on a reasoned determination that their benefits justify their costs. In choosing among alternative regulatory approaches, we selected those approaches that maximize net benefits. Based on the analysis that follows, the Department believes that this regulatory action is consistent with the principles in Executive Order 13563.

We also have determined that this final regulatory action does not unduly interfere with State, local, and tribal governments in the exercise of their governmental functions.

These final priorities, requirements, definitions, and performance measures are needed to implement the CC program award process in the manner that the Department believes will best enable the program to achieve its objectives of providing capacity-building services to SEAs, REAs, LEAs, and schools that help improve educational outcomes for all students, close achievement gaps, and improve the quality of instruction.

Intergovernmental Review: This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Accessible Format: Individuals with disabilities can obtain this document in an accessible format (e.g., Braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Adobe Portable Document Format (PDF). To use PDF you must have Adobe Acrobat Reader, which is available free at the site.

You may also access documents of the Department published in the Federal Register by using the article search feature at www.federalregister.gov. Specifically, through the advanced search feature at this site, you can limit your search to documents published by the Department.

Dated: April 1, 2019.
Frank Brogan,
Assistant Secretary for Elementary and Secondary Education.

[FR Doc. 2019-06583 Filed 4-3-19; 8:45 am]

BILLING CODE 4000-01-P